DEPARTMENT OF LABOR

Employment and Training Administration

[TA-W-39,399]

Lomac LLC, Muskegon, MI; Amended Certification Regarding Eligibility To Apply for Worker Adjustment Assistance

In accordance with section 223 of the Trade Act of 1974 (19 U.S.C. 2273) the Department of Labor issued a Certification of Eligibility to Apply for Worker Adjustment Assistance on July 30, 2001, applicable to workers of Lomac LLC, Muskegon, Michigan. The notice was published in the Federal Register on August 15, 2001 (66 FR 42878).

At the request of a state agency representative, the Department reviewed the certification for workers of the subject firm. The workers were engaged in the production of 3,3′ dichlorobenzene dihydrochloride (DCB).

New information shows that Brian Caftenholz was retained at the subject firm beyond the July 30, 2003, expiration date of the certification. Mr. Caftenholz was retained by the firm to complete the close-down process until his termination on August 15, 2003.

Based on these findings, the Department is amending the certification to extend the July 30, 2003, expiration date for TA-W-39,399 to read August 15, 2003.

The intent of the Department's certification is to include all workers of Lomac LLC who were adversely affected by increased imports.

The amended notice applicable to TA-W-39,399 is hereby issued as follows:

All workers of Lomac LLC, Muskegon, Michigan, who became totally or partially separated from employment on or after May 18, 2000, through August 15, 2003, are eligible to apply for adjustment assistance under section 223 of the Trade Act of 1974.

Signed in Washington, DC, this 21st day of July, 2004.
Linda G. Poole,
Certifying Officer, Division of Trade Adjustment Assistance.

[FR Doc. 04-17607 Filed 8-2-04; 8:45 am]

BILLING CODE 4510-30-P